DEPARTMENT OF HOMELAND SECURITY

Federal Emergency Management Agency

[Docket ID: FEMA-2016-0014; OMB No. 1660-0033]

Agency Information Collection Activities: Proposed Collection; Comment Request; Residential Basement Floodproofing Certification

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the certification of floodproofed residential basements in Special Flood Hazard Areas (SFHAs).

DATES: Comments must be submitted on or before September 6, 2016.

ADDRESSES: To avoid duplicate submissions to the docket, please use only one of the following means to submit comments:

(1) Online. Submit comments at www.regulations.gov under Docket ID FEMA-2016-0014. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Mary Chang, Insurance Examiner, FEMA, Mitigation Directorate, (202) 212-4712 for additional information. You may contact the Records Management Division for copies of the proposed collection of information at email address: FEMA-Information-Collections-Management@fema.dhs.gov.

SUPPLEMENTARY INFORMATION: The Federal Emergency Management Agency (FEMA) is authorized to establish and carry out a National Flood Insurance Program (NFIP) to enable interested persons to purchase insurance against flood loss. See, 42 U.S.C. 4001 et seq. Flood insurance under the NFIP can be sold or renewed only within a community that has adopted adequate floodplain management regulations consistent with the Federal criteria in the NFIP regulations. See, 44 CFR 60.3. FEMA's minimum floodplain management criteria require that all new construction and substantial improvements of residential structures within Zones A1-30, AE and AH have the lowest floor, including the basement, elevated at or above the base flood level. FEMA can grant an exception to this rule after a community submits a proposal to FEMA to adopt standards for floodproofing residential basements below the base flood level in zones A1-30, AH, AO, and AE in accordance with 44 CFR 60.6(c). When FEMA grants an exception to a community under 44 CFR 60.6(c), property owners in these communities submit a Residential Basement Floodproofing Certificate with their NFIP application for flood insurance for rating purposes. The certification also provides community officials with information to determine compliance with the community's floodplain management ordinance.

Collection of Information

Title: Residential Basement Floodproofing Certification.

Type of Information Collection: Revision of a currently approved information collection.

OMB Number: 1660-0033.

FEMA Forms: FEMA Form 086-0-24, Residential Basement Floodproofing Certificate.

Abstract: The Residential Basement Floodproofing Certification is completed by an engineer or architect and certifies that the basement floodproofing meets the minimum floodproofing specifications of FEMA. This certification is for residential structures located in non-coastal Special Flood Hazard Areas in communities that have received an exception to the requirement that structures be built at or above the Base Flood Elevation (BFE) under 44 CFR 60.6(c). Residential structures with certification showing the building is floodproofed to at least 1 foot above the BFE are eligible for lower rates on flood insurance.

Affected Public: Individuals or households, Business or other for-profit.

Number of Respondents: 100.

Number of Responses: 100.

Estimated Total Annual Burden Hours: 325 hours.

Estimated Cost: The estimated annual cost to respondents for the hour burden is $18,151. The annual costs to respondents' operations and maintenance costs for technical services is $35,000. There are no annual start-up or capital costs. The cost to the Federal Government is $2,885.71.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: June 29, 2016.
Richard W. Mattison,
Records Management Program Chief, Mission Support, Federal Emergency Management Agency, Department of Homeland Security.

[FR Doc. 2016-15825 Filed 7-1-16; 8:45 am]

BILLING CODE 9111-52-P